Proclamation 10506 of December 14, 2022

Day of Remembrance: 10 Years After the 2012 Sandy Hook Elementary School Shooting

By the President of the United States of America

A Proclamation

Ten years ago, a lone gunman killed 20 first-graders and 6 educators at Sandy Hook Elementary School in Newtown, Connecticut. Today, those first-graders should be sitting in eleventh-grade classrooms, planning for their high school graduation and all the possibilities ahead. Those educators should be preparing lessons for new groups of students and enjoying full lives surrounded by their loved ones. Instead, their desks are forever empty, their families are left with holes in their hearts, and our Nation is missing a piece of its soul.

As we remember and grieve those victims and their families, we acknowledge the pain that the community of Newtown continues to endure. That horrific day changed the lives of every survivor, many of whom still carry physical and emotional wounds. It forced parents across America to wonder whether the goodbye hug they gave their child before school would be the last they ever have, like it was for the Newtown families. And it has driven all of us to reexamine our core values and whether this can be a country that protects the most innocent.

I believe it can. This summer, I signed into law the first major bipartisan gun safety legislation in nearly 30 years, which helps to keep firearms away from people who are a danger to themselves and others. And I have taken more executive action to reduce gun violence than any other President by this point in their Administration. We are cracking down on so-called ghost guns, rogue gun dealers, and gun traffickers; helping States implement laws for extreme risk protection orders; and boosting investments in community interventions to stop violence. I am also fighting to ban assault weapons and high-capacity magazines. The memories of the Newtown victims—and all victims of gun violence—demand nothing less.

I am optimistic because I have seen the courage and resolve of the Sandy Hook families. They have suffered unimaginable loss but have turned their pain into purpose. For some, that has meant advocating for gun safety laws to protect other families from experiencing the same grief. For others, it has meant starting foundations or programs that honor those they lost. Working alongside other families of gun violence victims across America, they have helped shape a new movement for safety, grounded in love for our children, unwavering resilience in the face of grief, and a deeply held dream for a better future.

Today and always, we honor the bright lives lost 10 years ago at Sandy Hook Elementary School: Charlotte Bacon, Daniel Barden, Rachel D'Avino, Olivia Engel, Josephine Gay, Dylan Hockley, Dawn Lafferty Hochsprung, Madeleine Hsu, Catherine Hubbard, Chase Kowalski, Jesse Lewis, Ana Márquez-Greene, James Mattioli, Grace McDonnell, Anne Marie Murphy, Emilie Parker, Jack Pinto, Noah Pozner, Caroline Previdi, Jessica Rekos, Avielle Richman, Lauren Rousseau, Mary Sherlach, Victoria Soto, Benjamin Wheeler, Allison Wyatt.

NOW, THEREFORE, I, JOSEPH R. BIDEN JR., President of the United States of America, do hereby proclaim December 14, 2022, a Day of Remembrance: 10 Years After the 2012 Sandy Hook Elementary School Shooting. Let us recognize the courage of survivors and families of victims, who continue working to rebuild their lives, and let us commit to eradicating gun violence and helping rebuild communities that have suffered so much.

IN WITNESS WHEREOF, I have hereunto set my hand this fourteenth day of December, in the year of our Lord two thousand twenty-two, and of the Independence of the United States of America the two hundred and forty-seventh.

[FR Doc. 2022-27597

Filed 12-16-22; 8:45 am]

Billing code 3395-F3-P